DEPARTMENT OF LABOR

Employment and Training Administration

[TA-W-56,392]

Weyerhaeuser, Sweet Home, OR; Notice of Termination of Investigation

Pursuant to section 221 of the Trade Act of 1974, as amended, an investigation was initiated on January 25, 2005, in response to a worker petition filed by a company official on behalf of workers at Weyerhaeuser, Sweet Home, Oregon.

The petitioner has requested that the petition be withdrawn. Consequently, the investigation has been terminated.

Signed in Washington, DC, this 11th day of March, 2005.
Elliott S. Kushner,
Certifying Officer, Division of Trade Adjustment Assistance.

[FR Doc. E5-1348 Filed 3-25-05; 8:45 am]

BILLING CODE 4510-30-P